DEPARTMENT OF HOMELAND SECURITY

Federal Emergency Management Agency

44 CFR Part 67

[Docket ID FEMA-2011-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Conway County, Arkansas, and Incorporated Areas
Docket No.: FEMA-B-1087
Arkansas River | Approximately 1.0 mile downstream of State Highway 9 | +295 | Unincorporated Areas of Conway County.
| Approximately 1.0 mile upstream of Lock & Dam No. 9 | +303
Caney Creek | Approximately 1,300 feet downstream of the confluence with Park Creek | +306 | Unincorporated Areas of Conway County.
| Approximately 0.6 mile upstream of State Highway 9 | +325
Cherokee Creek | Just downstream of Union Pacific Railroad | +311 | Unincorporated Areas of Conway County.
| Just downstream of Green Lane | +319
Point Remove Creek | At the confluence with the Arkansas River | +299 | Unincorporated Areas of Conway County.
| Approximately 2.0 miles upstream of Old Cherokee Road | +301
* National Geodetic Vertical Datum.
+ North American Vertical Datum.
# Depth in feet above ground.
‸ Mean Sea Level, rounded to the nearest 0.1 meter.
ADDRESSES
Unincorporated Areas of Conway County
Maps are available for inspection at 117 South Moose Street, Morrilton, AR 72110.
Washington County, Florida, and Incorporated Areas
Docket No.: FEMA-B-1097
Alligator Creek | At the upstream side of County Road 166 | +76 | Unincorporated Areas of Washington County.
| Approximately 3.2 miles upstream of County Road 166 | +81
Bear Bay Creek | At the confluence with Pine Log Creek | +44 | Unincorporated Areas of Washington County.
| Approximately 3.9 miles upstream of the confluence with Pine Log Creek | +76
Botheration Creek | At the confluence with Pine Log Creek | +32 | Unincorporated Areas of Washington County.
| Approximately 200 feet downstream of the county boundary | +90
Brock Mill Branch | At the confluence with Jones Rice Mill Branch | +54 | Unincorporated Areas of Washington County.
| Approximately 100 feet downstream of State Road 77 | +109
Flat Creek | At the confluence with Hard Labor Creek | +50 | Unincorporated Areas of Washington County.
| Approximately 9.7 miles upstream of the confluence with Hard Labor Creek | +160
Hard Labor Creek | At State Road 277 | +43 | Unincorporated Areas of Washington County.
| Approximately 15.6 miles upstream of the confluence with Holmes Creek | +114
Helms Branch | At the confluence with Alligator Creek | +78 | City of Chipley, Unincorporated Areas of Washington County.
| Approximately 3.2 miles upstream of the confluence with Alligator Creek | +89
Johnson Branch | At Roche Avenue | +37 | City of Vernon, Unincorporated Areas of Washington County.
| Approximately 3.8 miles upstream of the confluence with Holmes Creek | +101
Jones Rice Mill Branch | At the upstream side of State Road 277 | +54 | Unincorporated Areas of Washington County.
| Approximately 5.9 miles upstream of the confluence with Holmes Creek | +146
Pine Log Creek | Approximately 1.9 miles upstream of the confluence with the East River | +21 | Town of Ebro, Unincorporated Areas of Washington County.
| At the confluence with Bear Bay Creek | +44
Piney Branch | At State Road 77 | +40 | Unincorporated Areas of Washington County.
| Approximately 6.6 miles upstream of the confluence with Holmes Creek | +193
Pippen Mill Creek | At Roche Avenue | +37 | City of Vernon, Unincorporated Areas of Washington County.
| Approximately 5.4 miles upstream of the confluence with Holmes Creek | +95
Reedy Creek | At the confluence with Hard Labor Creek | +59 | Town of Wausau, Unincorporated Areas of Washington County.
| Approximately 3.8 miles upstream of the confluence with Hard Labor Creek | +105
Unnamed Tributary 1 to Alligator Creek | Approximately 765 feet upstream of State Road 277 | +68 | Unincorporated Areas of Washington County.
| Approximately 1.4 miles upstream of State Road 277 | +121
Unnamed Tributary 2 to Alligator Creek | Approximately 0.4 mile upstream of the confluence with Alligator Creek | +72 | City of Chipley, Unincorporated Areas of Washington County.
| Approximately 2.2 miles upstream of the confluence with Alligator Creek | +111
Unnamed Tributary 3 to Alligator Creek | At the confluence with Alligator Creek | +76 | City of Chipley, Unincorporated Areas of Washington County.
| Approximately 2 miles upstream of the confluence with Alligator Creek | +102
Unnamed Tributary to Helms Branch | Approximately 300 feet downstream of Brickyard Road | +117 | City of Chipley, Unincorporated Areas of Washington County.
| Approximately 0.6 mile upstream of Brickyard Road | +131
Unnamed Tributary to Holmes Creek | Approximately 0.4 mile upstream of the confluence with Holmes Creek | +36 | City of Vernon, Unincorporated Areas of Washington County.
| Approximately 2.2 miles upstream of the confluence with Holmes Creek | +52
Unnamed Tributary to Holmes Creek East Branch | At the confluence with Unnamed Tributary to Holmes Creek | +42 | City of Vernon, Unincorporated Areas of Washington County.
| Approximately 1.3 miles upstream of the confluence with Unnamed Tributary to Holmes Creek | +55
* National Geodetic Vertical Datum.
+ North American Vertical Datum.
# Depth in feet above ground.
‸ Mean Sea Level, rounded to the nearest 0.1 meter.
ADDRESSES
City of Chipley
Maps are available for inspection at City Hall, 1442 Jackson Avenue, Chipley, FL 32428.
City of Vernon
Maps are available for inspection at 2808 Yellow Jacket Drive, Vernon, FL 32462.
Town of Ebro
Maps are available for inspection at the Town Hall, 6629 Dog Track Road, Ebro, FL 32437.
Town of Wausau
Maps are available for inspection at the Town Hall, 1607 2nd Avenue, Wausau, FL 32463.
Unincorporated Areas of Washington County
Maps are available for inspection at the Washington County Clerk's Office, 1293 Jackson Avenue, Chipley, FL 32428.
Delaware County, Indiana, and Incorporated Areas
Docket No.: FEMA-B-1064
Muncie Creek | Just downstream of McCulloch Boulevard | +939 | City of Muncie, Unincorporated Areas of Delaware County.
| Just downstream of Norfolk Southern Railroad | +959
West Fork White River | Approximately 2,200 feet downstream of I-69 | +873 | City of Muncie, Town of Daleville, Town of Yorktown, Unincorporated Areas of Delaware County.
| Approximately 17,780 feet upstream of County Road 700 | +992
* National Geodetic Vertical Datum.
+ North American Vertical Datum.
# Depth in feet above ground.
‸ Mean Sea Level, rounded to the nearest 0.1 meter.
ADDRESSES
City of Muncie
Maps are available for inspection at City Hall, 300 North High Street, Muncie, IN 47334.
Town of Daleville
Maps are available for inspection at the Town Hall, 8019 Walnut Street, Daleville, IN 47334.
Town of Yorktown
Maps are available for inspection at the Town Hall, 9800 West Smith Street, Yorktown, IN 47396.
Unincorporated Areas of Delaware County
Maps are available for inspection at the Delaware County Building, 100 West Main Street, Muncie, IN 47305.
Allen County, Kentucky, and Incorporated Areas
Docket No.: FEMA-B-1078
Barren River Lake | Entire shoreline of Barren River Lake from just upstream of Barren River Dam to approximately 0.5 mile upstream of Brownsfield Road | +590 | Unincorporated Areas of Allen County.
Barren River Tributary 20 (backwater effects from Barren River Lake) | From the confluence with Barren River Lake to approximately 0.8 mile upstream of the confluence with Barren River Lake | +590 | Unincorporated Areas of Allen County.
Barren River Tributary 23 (backwater effects from Barren River Lake) | From the confluence with Barren River Lake to approximately 0.4 mile upstream of the confluence with Barren River Lake | +590 | Unincorporated Areas of Allen County.
Barren River Tributary 26 (backwater effects from Barren River Lake) | From the confluence with Barren River Lake to approximately 1,900 feet upstream of the confluence with Barren River Lake | +590 | Unincorporated Areas of Allen County.
Barren River Tributary 28 (backwater effects from Barren River Lake) | From the confluence with Barren River Lake to approximately 0.4 mile upstream of the confluence with Barren River Lake | +590 | Unincorporated Areas of Allen County.
Barren River Tributary 29 (backwater effects from Barren River Lake) | From the confluence with Barren River Lake to approximately 0.4 mile upstream of the confluence with Barren River Lake | +590 | Unincorporated Areas of Allen County.
Bear Creek (backwater effects from Barren River Lake) | From the confluence with Rhoden Creek Lake to approximately 0.7 mile upstream of the confluence with Rhoden Creek | +590 | Unincorporated Areas of Allen County.
Hurricane Creek (backwater effects from Barren River Lake) | From the confluence with Barren River Lake to approximately 0.7 mile upstream of the confluence with Barren River Lake | +590 | Unincorporated Areas of Allen County.
Hurricane Creek Tributary 3 (backwater effects from Barren River Lake) | From the confluence with Hurricane Creek to approximately 1,000 feet upstream of the confluence with Hurricane Creek | +590 | Unincorporated Areas of Allen County.
| From the confluence with Barren River Lake to approximately 1,900 feet upstream of the confluence with Barren River Lake | +590
Hurricane Creek Tributary 4 (backwater effects from Barren River Lake) | From the confluence with Barren River Lake to approximately 0.4 mile upstream of the confluence with Barren River Lake | +590 | Unincorporated Areas of Allen County.
Manley Branch (backwater effects from Barren River Lake) | From the confluence with Barren River Lake to approximately 1 mile upstream of the confluence with Barren River Lake | +590 | Unincorporated Areas of Allen County.
Manley Branch Tributary 3 (backwater effects from Barren River Lake) | From the confluence with Barren River Lake to approximately 0.8 mile upstream of the confluence with Barren River Lake | +590 | Unincorporated Areas of Allen County.
Rhoden Creek (backwater effects from Barren River Lake) | From the confluence with Barren River Lake to approximately 1.4 miles upstream of the confluence with Barren River Lake | +590 | Unincorporated Areas of Allen County.
Trace Creek (backwater effects from Barren River Lake) | From the confluence with Barren River Lake to approximately 1 mile upstream of the confluence with Barren River Lake | +590 | Unincorporated Areas of Allen County.
Walnut Creek (backwater effects from Barren River Lake) | From the confluence with Barren River Lake to approximately 1.1 miles upstream of the confluence with Barren River Lake | +590 | Unincorporated Areas of Allen County.
Walnut Creek Tributary 7 (backwater effects from Barren River Lake) | From the confluence with Walnut Creek Lake to approximately 1.1 miles upstream of the confluence with Walnut Creek | +590 | Unincorporated Areas of Allen County.
* National Geodetic Vertical Datum.
+ North American Vertical Datum.
# Depth in feet above ground.
‸ Mean Sea Level, rounded to the nearest 0.1 meter.
ADDRESSES
Unincorporated Areas of Allen County
Maps are available for inspection at 201 West Main Street, Scottsville, KY 42164.
Boyle County, Kentucky, and Incorporated Areas
Docket No.: FEMA-B-1117
Balls Branch (backwater effects from Clarks Run) | From the confluence with Clarks Run to approximately 0.7 mile upstream of the confluence with Clarks Run | +875 | Unincorporated Areas of Boyle County.
Clarks Run | Approximately 1.2 miles upstream of Goggin Road | +849 | City of Danville, Unincorporated Areas of Boyle County.
| Approximately 0.6 mile downstream of Alum Springs Cross Pike | +965
Dix River Tributary 2 (backwater effects from Herrington Lake) | From the confluence with Herrington Lake to approximately 1,158 feet upstream of the confluence with Herrington Lake | +760 | Unincorporated Areas of Boyle County.
Herrington Lake | Entire shoreline | +760 | Unincorporated Areas of Boyle County.
Spears Creek | Approximately 0.6 mile upstream of the confluence with Herrington Lake | +788 | City of Danville, Unincorporated Areas of Boyle County.
| Approximately 780 feet upstream of the North Danville Bypass | +919
* National Geodetic Vertical Datum.
+ North American Vertical Datum.
# Depth in feet above ground.
‸ Mean Sea Level, rounded to the nearest 0.1 meter.
ADDRESSES
City of Danville
Maps are available for inspection at City Hall, 455 West Main Street, Danville, KY 40422.
Unincorporated Areas of Boyle County
Maps are available for inspection at the Boyle County Courthouse, 321 West Main Street, Danville, KY 40422.
St. James Parish, Louisiana, and Incorporated Areas
Docket No.: FEMA-B-1091
Mississippi River | Approximately 0.9 mile downstream of State Highway 3213 | +27 | Town of Gramercy, Town of Lutcher, Unincorporated Areas of St. James Parish.
| Approximately 1.2 miles upstream of State Highway 3213 | +28
Storage Areas from the Gulf (D2G model) | Approximately 1,079 feet south of State Highway 643 | +1 | Unincorporated Areas of St. James Parish.
| Approximately 60 feet south of the intersection of Sidney Road and Missouri Pacific Railroad, along the east side of the rail line | +14
* National Geodetic Vertical Datum.
+ North American Vertical Datum.
# Depth in feet above ground.
‸ Mean Sea Level, rounded to the nearest 0.1 meter.
ADDRESSES
Town of Gramercy
Maps are available for inspection at 120 North Montz Avenue, Gramercy, LA 70052.
Town of Lutcher
Maps are available for inspection at 2500 Louisiana Avenue, Lutcher, LA 70071.
Unincorporated Areas of St. James Parish
Maps are available for inspection at 5800 Highway 44, Convent, LA 70723.
Worcester County, Massachusetts (All Jurisdictions)
Docket Nos.: FEMA-B-1053 and FEMA-B-1139
Big Bummet River | Just downstream of State Highway 140 | +385 | Town of Shrewsbury.
| At the Town of Grafton corporate limits | +385
Blackstone River | Approximately 1,750 feet downstream of Saint Paul Street | +159 | City of Worcester, Town of Blackstone, Town of Grafton, Town of Millbury, Town of Millville, Town of Northbridge, Town of Sutton, Town of Uxbridge.
| Approximately 250 feet downstream of Millbury Street | +444
Cold Spring Brook | At the confluence with the Blackstone River | +323 | Town of Sutton.
| Approximately 150 feet downstream of State Highway 122A | +325
Cronin Brook | At the confluence with the Blackstone River | +298 | Town of Grafton.
| Approximately 1,100 feet downstream of Follette Street | +302
Goodridge Brook | Approximately 150 feet upstream of State Highway 70 | +258 | Town of Clinton.
| Approximately 250 feet downstream of Parker Road | +258
Leesville Pond | Entire shoreline | +486 | City of Worcester.
Middle River | Approximately 250 feet downstream of Millbury Street | +444 | City of Worcester.
| Approximately 100 feet downstream of McKeon Road | +452
Mill River | Approximately 3,900 feet downstream of Colonial Drive | +196 | Town of Blackstone.
| Approximately 1,300 feet downstream of Colonial Drive | +198
Mumford River | At the confluence with the Blackstone River | +225 | Town of Uxbridge.
| Approximately 300 feet downstream of Mendon Street | +226
Quinsigamond River | At the confluence with the Blackstone River | +293 | Town of Grafton.
| At Pleasant Street | +293
Ramshorn Pond | Entire shoreline | +632 | Town of Sutton.
Riverdale Milles Sluice Gates and Tail Race | Approximately 600 feet upstream of the confluence with the Blackstone River | +256 | Town of Northbridge.
| Approximately 100 feet upstream of Riverdale Street | +259
Singletary Brook | At the confluence with the Blackstone River | +393 | Town of Millbury.
| Approximately 300 feet downstream of Rhodes Street | +394
Singletary Pond | Entire shoreline | +559 | Town of Sutton.
Sudbury River | Approximately 1,200 feet downstream of Fruit Street | +264 | Town of Westborough.
| Approximately 3,000 feet upstream of Fruit Street | +276
Summet Brook (backwater effects from Big Bummet Brook) | Approximately 2,800 feet upstream of the confluence with Big Bummet Brook, at the corporate limits | +363 | Town of Shrewsbury.
| Approximately 0.6 mile upstream of the confluence with Big Bummet Brook | +363
Unnamed Tributary (backwater effects from Cronin Brook) | Approximately 1,100 feet upstream of the confluence with Cronin Brook, at the corporate limits | +331 | Town of Millbury.
| Approximately 2,200 feet upstream of the confluence with Cronin Brook | +331
West River | At the confluence with the Blackstone River | +224 | Town of Uxbridge.
| Approximately 200 feet upstream of Henry Street | +225
* National Geodetic Vertical Datum.
+ North American Vertical Datum.
# Depth in feet above ground.
‸ Mean Sea Level, rounded to the nearest 0.1 meter.
ADDRESSES
City of Worcester
Maps are available for inspection at City Hall, 455 Main Street, Worcester, MA 01608.
Town of Blackstone
Maps are available for inspection at the Town Hall, 15 Saint Paul Street, Blackstone, MA 01504.
Town of Clinton
Maps are available for inspection at the Town Hall, 242 Church Street, Clinton, MA 01510.
Town of Grafton
Maps are available for inspection at the Town Hall, 30 Providence Road, Grafton, MA 01519.
Town of Millbury
Maps are available for inspection at the Town Hall, 127 Elm Street, Millbury, MA 01527.
Town of Millville
Maps are available for inspection at the Town Hall, 8 Central Street, Millville, MA 01529.
Town of Northbridge
Maps are available for inspection at the Northbridge Town Hall, 7 Main Street, Whitinsville, MA 01588.
Town of Shrewsbury
Maps are available for inspection at the Town Hall, 100 Maple Avenue, Shrewsbury, MA 01545.
Town of Sutton
Maps are available for inspection at the Town Hall, 4 Uxbridge Road, Sutton, MA 01590.
Town of Uxbridge
Maps are available for inspection at the Town Hall, 21 South Main Street, Uxbridge, MA 01569.
Town of Westborough
Maps are available for inspection at the Town Hall, 34 West Main Street, Westborough, MA 01581.
Marshall County, Mississippi, and Incorporated Areas
Docket No.: FEMA-B-1098
Byhalia Creek | Approximately 200 feet downstream of U.S. Route 178 | +332 | Town of Byhalia.
| Approximately 900 feet upstream of the railroad | +334
* National Geodetic Vertical Datum.
+ North American Vertical Datum.
# Depth in feet above ground.
‸ Mean Sea Level, rounded to the nearest 0.1 meter.
ADDRESSES
Town of Byhalia
Maps are available for inspection at 161 Highway 309 South, Byhalia, MS 38611.
Howell County, Missouri, and Incorporated Areas
Docket No.: FEMA-B-1105
Burton Branch | Approximately 2,200 feet upstream of Davis Lane | +1022 | City of West Plains, Unincorporated Areas of Howell County.
| Approximately 3,700 feet upstream of Davis Lane | +1031
Drainage Ditch Number 1 | Approximately 315 feet upstream of the City of Willow Springs corporate limits | +1255 | Unincorporated Areas of Howell County.
| Approximately 3,400 feet upstream of the City of Willow Springs corporate limits | +1279
Drainage Ditch Number 4 | Approximately 1,300 feet upstream of U.S. Route 60/63 | +1197 | City of Willow Springs, Unincorporated Areas of Howell County.
| Approximately 525 feet upstream of County Road 3280 | +1225
Eleven Point River | Approximately 1,500 feet downstream of the City of Willow Springs corporate limits | +1183 | City of Willow Springs, Unincorporated Areas of Howell County.
| Approximately 425 feet upstream of the City of Willow Springs corporate limits | +1289
Jam Up Creek | At County Road 3160 | +1098 | Unincorporated Areas of Howell County.
| Approximately 100 feet upstream of County Road 3890 | +1099
Mustion Creek | Approximately 330 feet downstream of the City of West Plains corporate limits | +997 | Unincorporated Areas of Howell County.
| Approximately 160 feet downstream of the City of West Plains corporate limits | +998
South Fork Howell Creek | Just upstream of Katherine Street | +1025 | Unincorporated Areas of Howell County.
| Approximately 400 feet upstream of Katherine Street | +1027
* National Geodetic Vertical Datum.
+ North American Vertical Datum.
# Depth in feet above ground.
‸ Mean Sea Level, rounded to the nearest 0.1 meter.
ADDRESSES
City of West Plains
Maps are available for inspection at 1910 Holiday Lane, West Plains, MO 65775.
City of Willow Springs
Maps are available for inspection at 900 West Main Street, Willow Springs, MO 65793.
Unincorporated Areas of Howell County
Maps are available for inspection at 101 Courthouse, West Plains, MO 65775.
Johnson County, Missouri, and Incorporated Areas
Docket No.: FEMA-B-1105
Clear Fork | Approximately 550 feet downstream of County Road 751 | +701 | City of Knob Noster, Unincorporated Areas of Johnson County.
| Approximately 1,750 feet upstream of U.S. Route 50 | +724
Hughes Branch | Approximately 550 feet downstream of County Road 75 | +737 | Unincorporated Areas of Johnson County.
| Approximately 100 feet upstream of State Highway 132 | +745
| Approximately 200 feet upstream of State Street | +769
| Approximately 2,000 feet upstream of State Street | +778
Tributary 2 | Approximately 50 feet downstream of State Highway 132 | +749 | Unincorporated Areas of Johnson County.
| Approximately 300 feet upstream of State Highway 132 | +750
* National Geodetic Vertical Datum.
+ North American Vertical Datum.
# Depth in feet above ground.
‸ Mean Sea Level, rounded to the nearest 0.1 meter.
ADDRESSES
City of Knob Noster
Maps are available for inspection at 218 North State Street, Knob Noster, MO 65336.
Unincorporated Areas of Johnson County
Maps are available for inspection at 122 Hout Street, Warrensburg, MO 64093.
Ste. Genevieve County, Missouri, and Incorporated Areas
Docket No.: FEMA-B-1126
Mississippi River | At the easternmost portion of the county near the confluence with the Kaskaskia River | +392 | City of Ste. Genevieve, Unincorporated Areas of Ste. Genevieve County.
| Approximately 2 miles upstream of the confluence with Isle du Bois Creek | +404
Old Mississippi River Channel | Approximately 0.66 mile downstream of the confluence with Walnut Creek | +391 | City of St. Mary, Unincorporated Areas of Ste. Genevieve County.
| Approximately 2.75 miles upstream of the confluence with Walnut Creek | +392
St. Laurent Branch | At the confluence with St. Laurent Creek | +391 | City of St. Mary, Unincorporated Areas of Ste. Genevieve County.
| Just upstream of Mulberry Street | +391
St. Laurent Creek | At the confluence with the Old Mississippi River Channel | +391 | City of St. Mary, Unincorporated Areas of Ste. Genevieve County.
| At the confluence with St. Laurent Branch | +391
Walnut Creek | At the confluence with the Old Mississippi River Channel | +392 | City of St. Mary.
| Approximately 1,940 feet upstream of the Old Mississippi River Channel | +392
* National Geodetic Vertical Datum.
+ North American Vertical Datum.
# Depth in feet above ground.
‸ Mean Sea Level, rounded to the nearest 0.1 meter.
ADDRESSES
City of Ste. Genevieve
Maps are available for inspection at 165 South 4th Street, Ste. Genevieve, MO 63670.
City of St. Mary
Maps are available for inspection at 782 3rd Street, St. Mary, MO 63673.
Unincorporated Areas of Ste. Genevieve County
Maps are available for inspection at 165 South 4th Street, Ste. Genevieve, MO 63670.
Cameron County, Pennsylvania (All Jurisdictions)
Docket No.: FEMA-B-1126
Bennett Branch Sinnemahoning Creek | Approximately 0.60 mile downstream of Sterling Run Road | +809 | Township of Gibson.
| Approximately 0.55 mile downstream of Sterling Run Road | +814
Driftwood Branch Sinnemahoning Creek | Approximately 1,835 feet downstream of Castle Garden Road | +905 | Township of Gibson.
| Approximately 980 feet downstream of Castle Garden Road | +905
Driftwood Branch Sinnemahoning Creek | Approximately 1.28 miles downstream of the confluence with Sinnemahoning Portage Creek | +1000 | Township of Portage.
| Approximately 1.18 miles downstream of the confluence with Sinnemahoning Portage Creek | +1001
Sinnemahoning Creek | Approximately 980 feet downstream of Castle Garden Road | +809 | Township of Gibson.
| Approximately 90 feet upstream of the confluence with Boyer Run | +809
* National Geodetic Vertical Datum.
+ North American Vertical Datum.
# Depth in feet above ground.
‸ Mean Sea Level, rounded to the nearest 0.1 meter.
ADDRESSES
Township of Gibson
Maps are available for inspection at the Gibson Township Municipal Building, 7657 Bridge Street, Driftwood, PA 15834.
Township of Portage
Maps are available for inspection at the Portage Township Municipal Building, 523 Sizer Run, Emporium, PA 15832.

(Catalog of Federal Domestic Assistance No. 97.022, “Flood Insurance.”)

Dated: June 9, 2011.
Sandra K. Knight,
Deputy Federal Insurance and Mitigation Administrator, Mitigation, Department of Homeland Security, Federal Emergency Management Agency.

[FR Doc. 2011-14896 Filed 6-15-11; 8:45 am]

BILLING CODE 9110-12-P